DEPARTMENT OF DEFENSE

Office of the Secretary

[Transmittal Nos. 14-40]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 14-40 with attached transmittal, policy justification, and Sensitivity of Technology.

Dated: August 25, 2014.
Aaron Siegel,
Alternate OSD Federal Register Liaison Officer, Department of Defense.

BILLING CODE 5001-06-P

BILLING CODE 5001-06-C

Transmittal No. 14-40

Notice of Proposed Issuance of Letter of Offer Pursuant to Section 36(b)(1) of the Arms Export Control Act, as Amended

(i) Prospective Purchaser: Canada

(ii) Total Estimated Value:

Major Defense Equipment* | $ 71 million
Other | $154 million
TOTAL | $225 million

(iii) Description and Quantity or Quantities of Articles or Services under Consideration for Purchase: 6 AN/AAQ-24(V) Large Aircraft Infrared Countermeasures (LAIRCM) Systems for the CP-140 Long Range Patrol Aircraft. The sale consists of 22 T-2465 AN/AAQ-24(V) Guardian Laser Transmitter Assemblies (GLTA), 52 R-2675 AN/AAQ-24(V) Next Generation Missile Approach Warning Sensors (MAWS), and 16 CP-2793 AN/AAQ-24(V) LAIRCM System Processors, support and test equipment, spare and repair parts, publications and technical documentation, personnel training and training equipment, U.S. Government and contractor engineering, technical and logistics support services, and other related elements of logistical and program support.

(iv) Military Department: Air Force (QCI).

(v) Prior Related Cases, if any:

FMS case QCC-$72M-14Oct10

FMS case QZZ-$568M-31Jan07

(vi) Sales Commission, Fee, etc., Paid, Offered, or Agreed to be Paid: None.

(vii) Sensitivity of Technology Contained in the Defense Article or Defense Services Proposed to be Sold: See Attached Annex.

(viii) Date Report Delivered to Congress: 12 August 2014.

* as defined in Section 47(6) of the Arms Export Control Act.

Policy Justification

Canada-AN/AAQ-24(V) Large Aircraft Infrared Countermeasures (LAIRCM) Systems

The Government of Canada has requested the sale of 6 AN/AAQ-24(V) Large Aircraft Infrared Countermeasures (LAIRCM) Systems for the CP-140 Long Range Patrol Aircraft. The sale consists of 22 T-2465 AN/AAQ-24(V) Guardian Laser Transmitter Assemblies (GLTA), 52 R-2675 AN/AAQ-24(V) Next Generation Missile Approach Warning Sensors (MAWS), and 16 CP-2793 AN/AAQ-24(V) LAIRCM System Processors, support and test equipment, spare and repair parts, publications and technical documentation, personnel training and training equipment, U.S. Government and contractor engineering, technical and logistics support services, and other related elements of logistical and program support. The estimated cost is $225 million.

The proposed sale will contribute to the foreign policy and national security of the United States by improving the security of a NATO ally that has been, and continues to be, an important force for political stability and economic progress in North America.

Canada will use this capability to enhance the survivability of its CP-140 Long Range Patrol aircraft and crew. The LAIRCM system will provide Canada's CP-140 fleet with defensive countermeasures against enemy attacks. Canada, which already has AN/AAQ-24(V) systems as part of its C-17 fleet, will have no difficulty absorbing these additional systems.

The proposed sale of this equipment and support will not alter the basic military balance in the region.

The principal contractor will be the Northrop Grumman Systems Corporation in Falls Church, Virginia. There are no known offset agreements proposed in connection with this potential sale.

Implementation of this proposed sale will not require the assignment of any additional U.S. Government or contractor representatives to Canada.

There will be no adverse impact on U.S. defense readiness as a result of this proposed sale.

Transmittal No. 14-40

Notice of Proposed Issuance of Letter of Offer Pursuant to Section 36(b)(1) of the Arms Export Control Act, as Amended

Annex

Item No. vii

(vii) Sensitivity of Technology:

1. The AN/AAQ-24(V) Large Aircraft Infrared Countermeasures system is a stand-along Directional Infrared Countermeasures (DIRCM) system that protects aircraft against ground launched infrared (IR) missiles. The AN/AAQ-24(V) is a small, passive/active, electro-optic, threat warning device used to detect surface-to-air IR missiles fired at helicopters and fixed-wing aircraft and automatically provides countermeasures as well as audio and visual warning messages to the aircrew. The basic system consists of multiple Missile Approach Warning Sensor (MAWS) units, Guardian Laser Turret Assembly (GLTA), Computer Processor (CP), Control Indicator (CI), and a User Data Module (UDM) card containing the laser jam codes. The UDM card is loaded into the CP prior to flight and is removed and put in secure storage when not in use. The set of MAWS units (AAR-54) is mounted on the aircraft exterior to provide omni-directional situational awareness. The MAWS detects the rocket plume of missiles and sends appropriate signals to the CP for processing. The CP analyzes the data and automatically deploys the appropriate countermeasures via the GLTA. The CP also contains comprehensive BIT circuitry. The CI displays the incoming threat so that the pilot can also take appropriate action. The maximum classification for all related hardware, software, technical data and documentation is Secret.

2. If a technologically advanced adversary were to obtain knowledge of the specific hardware and software elements, the information could be used to develop countermeasures that might reduce weapon system effectiveness or be used in the development of a system with similar or advanced capabilities.

3. A determination has been made that the recipient country can provide the same degree of protection for the sensitive technology being released as the U.S. Government. This sale is necessary in furtherance of the U.S. foreign policy and national security objectives outlined in the Policy Justification.

4. All defense articles and services listed in this transmittal have been authorized for release and export to the Government of Canada.

[FR Doc. 2014-20499 Filed 8-27-14; 8:45 am]

BILLING CODE 5001-06-P